DEPARTMENT OF LABOR

Employment and Training Administration

[NAFTA-04812]

Cemex Kosmos Cement Co., Pittsburgh Plant, Pittsburgh, PA; Notice of Negative Determination On Reconsideration

On December 3, 2001, the Department issued a Notice of Affirmative Determination Regarding Application for Reconsideration for NAFTA-TAA applicable to workers and former workers of the subject firm. The notice will soon be published in the Federal Register.

The denial of NAFTA-TAA for workers engaged in activities related to the production of cement at Cemex Kosmos Cement Company, Pittsburgh Plant, Pittsburgh, Pennsylvania was based on the finding that criteria (3) and (4) of the group eligibility requirements of paragraph (a)(1) of section 250 of the Trade Act, as amended, were not met. Imports from Canada or Mexico did not contribute importantly to workers' separations. There was no shift in production from the subject firm to Canada or Mexico during the relevant period.

The petitioner claims that jobs at the subject plant were lost after Cemex acquired Southdown Kosmos Cement Company. That is, the petitioner indicated that the acquisition of the subject plant and another Southdown Kosmos facility suddenly changed the subject plant's market area which resulted in the shutdown of the subject plant, due to the Southdown Louisville plant's market area moving North, resulting in the closure of the subject plant and the conversion of that facility to a cement terminal. The petitioner is of the opinion that this led to cheaper Mexican cement and clinker imports to be absorbed in the Southern and Western Market.

Review of the investigation and further contact with the company revealed that Southdown's (Louisville, Kentucky) market area was not reduced by additional movement North into the subject plant's market area.

According to the company, the preponderance in the declines in employment at the Pittsburgh Plant are related to the subject plant being the highest cost with the lowest capacity within Southdown's operations. The Louisville plant completed a large expansion, in which production was increased and the manufacturing cost was lowered. Therefore, with the unexpected slowdown in the economy and market excess capacity developed within Southdown, the decision was made to discontinue manufacturing operations in Pittsburgh and maximize production at the Louisville Plant and deliver cement into the Pittsburgh market (via the Pittsburgh plant functioning as a terminal).

The company did not import products from Mexico or Canada that are like and directly competitive with what the subject plant produced.

Conclusion

After review of the application and investigative findings, I conclude that there has been no error or misinterpretation of the law or of the facts which would justify reconsideration of the Department of Labor's prior decisions. Accordingly, the application is denied.

Signed at Washington, DC, this 5th day of February, 2002.
Edward A. Tomchick,
Director, Division of Trade Adjustment Assistance.

[FR Doc. 02-4736 Filed 2-27-02; 8:45 am]

BILLING CODE 4510-30-M